DEPARTMENT OF HOUSING AND URBAN DEVELOPMENT

[Docket No. FR 5451-N-01]

Notice of Web Availability and Opportunity for Public Comment for Revisions to the Section 8 Renewal Policy Guide Book

AGENCY: Office of the Assistant Secretary for Housing—Federal Housing Commissioner.

ACTION: Notice.

SUMMARY: Through this notice, HUD announces the availability on its Web site of revisions to the Section 8 Renewal Policy Guide Book, which is HUD's comprehensive guidance for renewing expiring Section 8 contracts. In addition, HUD will be accepting and considering comments from the public, which should be submitted in accordance with the instructions in the ADDRESSES section of this notice. HUD will publish the draft changes to the Guide Book on its Web site, along with a transmittal notice summarizing the changes, at http://www.hud.gov/offices/hsg/mfh/mfhsec8.cfm during the public comment period.

Comment Due Date: November 15, 2010.

ADDRESSES: Interested persons are invited to submit comments on this interim rule to the Department of Housing and Urban Development, Attention: Section 8 Renewal Guide, 451 7th Street, SW., Room 6134, Washington, DC 20410. Communications must refer to the above docket number and title. There are two methods of submitting public comments:

1. Submission of Comments by Mail. Comments may be submitted by mail posted by the due date to the Regulations Division, Office of General Counsel, Department of Housing and Urban Development, 451 Seventh Street, SW., Room 10276, Washington, DC 20410-0500.

2. Submission of comments by e-mail. Comments may be submitted by e-mail to Section8RenewalGuide@hud.gov.

Facsimile (Fax) comments will not be accepted. All comments must be submitted by one of the two methods stated above.

All communications must refer to the above docket number and title. Comments must specifically identify the page and paragraph number to which they refer.

FOR FURTHER INFORMATION CONTACT: Kerry Mulholland, Office of Multifamily Housing Development, Office of Housing, Department of Housing and Urban Development, 451 7th Street, SW., Room 6128, Washington, DC 20410, telephone 202-708-3000, Ext. 2649.

Dated: October 7, 2010.
Carol J. Galante,
Deputy Assistant Secretary for Multifamily Housing Programs.

[FR Doc. 2010-25904 Filed 10-13-10; 8:45 am]

BILLING CODE 4210-67-P